DEPARTMENT OF DEFENSE

Office of the Secretary

Deterrence Concepts Advisory Group

AGENCY: DoD.

ACTION: Notice of Advisory Committee meeting.

SUMMARY: The Deterrence Concepts Advisory Group will meet in closed session on September 20, 2001. The committee was established to provide advice and recommendations to the Secretary of Defense on advancing a strong, secure, and persuasive U.S. force for freedom and progress in the world, and to do so at the lowest nuclear force level consistent with security requirements.

In accordance with the Federal Advisory Committee Act, Public Law No. 92-463, as amended [5 U.S.C. App II (1982)], it has been determined that the committee meeting concerns matters sensitive to the interest of national security, listed in 5 U.S.C. 552B(c)(1)(1982) and accordingly this meeting was closed to the public.

DATES: September 20, 2001, 2 p.m.

ADDRESSES: The Pentagon, Washington, DC.

FOR FURTHER INFORMATION CONTACT: Lauren Haber, OUSD (Policy), 703-697-0286.

Dated: September 13, 2001.
L. M. Bynum,
Alternate Federal Register Liaison Officer, Department of Defense.

[FR Doc. 01-23373 Filed 9-19-01; 8:45 am]

BILLING CODE 5001-08-M